COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee has received proposals to add to the Procurement List commodities and services to be furnished by nonprofit agencies employing persons who are blind or have other severe disabilities.

COMMENTS MUST BE RECEIVED ON OR BEFORE: July 10, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services have been proposed for addition to Procurement List for production by the nonprofit agencies listed:

Commodities

Strap, Mail Tray

5340-01-365-1043

NPA: Work, Incorporated, North Quincy, Massachusetts

Logo, BDU Coat and Shirt

8455-00-NSH-0001 (Coat)

8455-00-NSH-0002 (Shirt)

NPA: Southeastern Kentucky Rehabilitation Industries, Inc., Corbin, Kentucky

Services

Administrative Services

General Services Administration, 100 Penn Square East, Philadelphia, Pennsylvania

NPA: Delaware County Branch of the Pennsylvania Association for the Blind, Chester, Pennsylvania

Administrative/General Support Services

Chaplain's Office, Great Lakes Naval Training Center, Great Lakes, Illinois

NPA: The Chicago Lighthouse for People who are Blind or Visually Impaired, Chicago, Illinois

Base Supply Center, Operation of Individual Equipment Element Store & HAZMART

McChord Air Force Base, Washington

NPA: The Lighthouse for the Blind, Inc., Seattle, Washington

Grounds Maintenance

U.S. Army Reserve Center, 50 East Street, Springfield, Massachusetts

NPA: CW Resources, Inc., New Britain, Connecticut

Grounds Maintenance

U.S. Army Reserve Center, AMSA 68(G), 42 Albion Road, Lincoln, Rhode Island

NPA: Greater Providence Chapter, Rhode Island Association for Retarded Citizens, North Providence, Rhode Island

Janitorial/Custodial

Marine Corps Reserve Training Center, 4201 Chester Avenue, Bakersfield, California

NPA: The Bakersfield Association for Retarded Citizens, Inc., Bakersfield, California

Janitorial/Custodial

Weapons Support Facility, Seal Beach, California

NPA: Goodwill Industries of Orange County, Santa Ana, California

Janitorial/Custodial

Ford House Office Building, Washington, DC

NPA: Davis Memorial Goodwill Industries, Washington, DC

Janitorial/Custodial

GSA Distribution Depot, 500 Edwards Avenue, Harahan, Louisiana

NPA: Louisiana Industries for the Disabled, Baton Rouge, Louisiana

Janitorial/Custodial for the following locations:

Veterans Center #401, 1766 Fort Street, Lincoln Park, Michigan

Veterans Center #402, 4161 Cass, Detroit, Michigan

NPA: Jewish Vocational Service and Community Workshop, Inc., Southfield, Michigan

Temporary Medical Record Filing for the following locations:

VA Medical Center, Nashville, Tennessee

Alvin C. York VA Medical Center, Murfreesboro, Tennessee

NPA: Ed Lindsey Industries f/t Blind, Inc., Nashville, Tennessee

Louis R. Bartalot,
Deputy Director (Operations).

[FR Doc. 00-14683 Filed 6-8-00; 8:45 am]

BILLING CODE 6353-01-P